DEPARTMENT OF TRANSPORTATION

Federal Aviation Administration

14 CFR Part 71

[Docket No. FAA-2005-21448; Airspace Docket No. 05-AAL-16]

Establishment of Class E Airspace; Golovin, AK

AGENCY: Federal Aviation Administration (FAA), DOT.

ACTION: Final rule; correction.

SUMMARY: This action corrects an error in the airspace description contained in a Final Rule that was published in the Federal Register on Tuesday, September 13, 2005 (70 FR 53917). Airspace Docket No. 05-AAL-16.

EFFECTIVE DATE: 0901 UTC, December 22, 2005

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION:

History

Federal Register Document 05-18155, Airspace Docket No. 05-AAL-16, published on Tuesday, September 13, 2005 (70 FR 53917), established Class E airspace at Golovin, AK. An error was discovered in the airspace description that misidentified the airfield location. This action corrects that error.

Correction to Final Rule

Accordingly, pursuant to the authority delegated to me, the airspace description of the Class E airspace published in the Federal Register, Tuesday, September 13, 2005 (70 FR 53917), (FR Doc 05-18155, page 53918, column 1) is corrected as follows:

PART 71—[AMENDED]

§ 71.1 [Corrected]

* * * * *

AAL AK E5 Golovin, AK [Corrected]

Golovin Airport, AK

(Lat. 64°33′02″ N., Long. 163°00′26″ W.)

That airspace extending upward from 700 feet above the surface within a 7.4-mile radius of the Golovin Airport, and that airspace extending upward from 1,200 feet above the surface within a 30-mile radius of Lat. 64°43′47″ N., Long. 163°15′17″ W and a 30-mile radius of Lat. 64°17′57″ N., Long. 163°01′41″ W.

* * * * *

Issued in Anchorage, AK, on September 14, 2005.
Michael A. Tarr,
Acting Area Director, Alaska Flight Service Operations.

[FR Doc. 05-18932 Filed 9-21-05; 8:45 am]

BILLING CODE 4910-13-P